AMTRAK REFORM COUNCIL

Notice of Meeting

AGENCY: Amtrak Reform Council.

ACTION: Notice of special public business meeting in Los Angeles, CA.

SUMMARY: As provided in Section 203 of the Amtrak Reform and Accountability Act of 1997 (Reform Act), the Amtrak Reform Council (Council) gives notice of a special public meeting of the Council. On Thursday, September 20, 2001, the Council will hold a Business Meeting 8:30 a.m.-10:30 a.m. Pacific Daylight Time (PDT) during which time the Council members will discuss general Council business. Immediately following the business meeting, also on September 20, 2001 and at the same location, the Council will hold a formal Hearing inviting the Mountain and West Coast states to testify before the Council regarding the issues raised in the Council's Second Annual Report published in March 2001. The Hearing will be held from 10:30 a.m. to 5:30 p.m. PDT.

DATES: The Business Meeting will be held on Thursday, September 20, 2001, from 8:30 a.m.-10:30 a.m. PDT. The Hearing will also be held on Thursday, September 20, 2001, from 10:30 a.m. to 5:30 p.m. PDT. Both events are open to the public.

ADDRESSES: Both the Business Meeting and the Hearing will take place in the Garden West Room in the Wilshire Grand Hotel, 930 Wilshire Boulevard, Los Angeles, CA 90017. Persons in need of special arrangements should contact the person listed below.

FOR FURTHER INFORMATION CONTACT: Deirdre O'Sullivan, Amtrak Reform Council, Room 7105, JM-ARC, 400 Seventh Street, SW, Washington, DC 20590, or by telephone at (202) 366-0591; FAX: 202-493-2061. For information regarding ARC's upcoming events, the agenda for meetings, the ARC's Second Annual Report, information about ARC Council Members and staff, and much more, you can also visit the Council's website at www.amtrakreformcouncil.gov.

The Council meeting following the Los Angeles meeting will be held on Friday, October 12, 2001, in the Atlanta B Room of the Atlanta Renaissance Hotel at 590 West Peachtree Street, NW, Atlanta, GA 30308. The ARC Business Meeting will be held from 8:30 a.m. to 10:30 a.m. (EDT). Following the business meeting, the Council will hold a hearing inviting the Southern and East Coast states to testify on issues raised in the Council's Second Annual Report published in March 2001. The hearing will be held from 10:30 a.m. to 5:30 p.m. (EDT).

SUPPLEMENTARY INFORMATION: The ARC was created by the Amtrak Reform and Accountability Act of 1997 (Reform Act), as an independent commission, to evaluate Amtrak's performance and to make recommendations to Amtrak for achieving further cost containment, productivity improvements, and financial reforms. In addition, the Reform Act provides: that the Council is to monitor cost savings from work rules established under new agreements between Amtrak and its labor unions; that the Council submit an annual report to Congress that includes an assessment of Amtrak's progress on the resolution of productivity issues; and that, after a specified period, the Council has the authority to determine whether Amtrak can meet certain financial goals specified under the Reform Act and, if it finds that Amtrak cannot, to notify the President and the Congress.

The Reform Act prescribes that the Council is to consist of eleven members, including the Secretary of Transportation and ten others nominated by the President and the leadership of the Congress. Members serve a five-year term.

Issued in Washington, DC, August 30, 2001.
Thomas A. Till,
Executive Director.

[FR Doc. 01-22244 Filed 9-4-01; 8:45 am]

BILLING CODE 4910-06-P